DEPARTMENT OF TRANSPORTATION

Federal Railroad Administration

Petitions for Waivers of Compliance

In accordance with Title 49 Code of Federal Regulations (CFR) Sections 211.9 and 211.41, notice is hereby given that the Federal Railroad Administration (FRA) has received a request for a waiver of compliance with certain requirements of the Federal safety laws and regulations. The petition is described below, including the party seeking relief, the regulatory provisions involved, the nature of the relief being requested, and the petitioner's arguments in favor of relief.

Union Pacific Railroad Company

[Docket Number FRA-2001-10235]

Union Pacific Railroad Company (UP), a Class I railroad, requests a waiver of compliance with certain provisions of 49 CFR part 214, Railroad Workplace Safety. The specific sections of the rule for which waiver is sought are 49 CFR 214.329, Train approach warning provided by watchmen/lookouts, and 49 CFR 214.337, On-track safety procedures for lone workers.

UP requests relief that will permit the use of a system described by UP as the automatic train approach warning system (TAWS). UP proposes that roadway work groups be permitted to substitute TAWS for watchmen/lookouts as the method of train approach warning when fouling a track within equipped interlockings and controlled points. UP also proposes that lone workers be permitted to use TAWS as a method of train approach warning within the limits of those interlockings and controlled points without a requirement to establish working limits.

On December 16, 1996, the FRA published a final rule amending 49 CFR part 214 with the addition to it of the Roadway Worker Protection Standards, which became effective on January 15, 1997. The regulation mandates clearly defined methods of protection against moving trains and railroad equipment for railroad employees who perform certain maintenance and inspection duties on and near railroad tracks. UP previously filed a petition for waiver of certain provisions of that rule to permit the use of TAWS in place of watchmen/lookouts (Docket Number FRA 2000-7912). On December 13, 2000, UP withdrew this petition.

In its new petition, Docket Number 2001-10235, UP states that TAWS will exceed the minimum requirements for warning roadway workers of the approach of trains and will be used at selected control points on the railroad. UP also states that this system will be an integral part of the signal and train control system which includes, incorporating the same level of reliability and principles of a fail-safe design.

Interested parties are invited to participate in this proceeding by submitting written views, data, or comments. If any interested party desires an opportunity for oral comment, he or she should notify FRA, in writing, before the end of the comment period and specify the basis for his or her request. All communications concerning these proceedings should identify the appropriate docket number (Docket Number FRA-2001-10235) and must be submitted to the DOT Docket Management Facility, Room PL-401 (Plaza level) 400 Seventh Street, S.W., Washington, D.C. 20590. Communications received within 45 days of the date of this notice will be considered by FRA before final action is taken. Comments received after that date will be considered as far as practicable. All written communications concerning this proceeding are available for examination during regular business hours (9:00 a.m.-5:00 p.m.) at the above facility. All documents in the public docket, including UP's detailed waiver request, are also available for inspection and copying on the Internet at the docket facility's Web site at http://dms.dot.gov.

Issued in Washington, DC on September 19, 2001.
Grady C. Cothen, Jr.,
Deputy Associate Administrator for Safety Standards and Program Development.

[FR Doc. 01-23935 Filed 9-24-01; 8:45 am]

BILLING CODE 4910-06-P